DEPARTMENT OF THE INTERIOR

National Park Service

[NPS-WASO-NRNHL-19984; PPWOCRADI0, PCU00RP14.R50000]

National Register of Historic Places; Notification of Pending Nominations and Related Actions

AGENCY: National Park Service, Interior.

ACTION: Notice.

SUMMARY: The National Park Service is soliciting comments on the significance of properties nominated before December 12, 2015, for listing or related actions in the National Register of Historic Places.

DATES: Comments should be submitted by January 25, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION:

The properties listed in this notice are being considered for listing or related actions in the National Register of Historic Places. Nominations for their consideration were received by the National Park Service before December 12, 2015. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ALABAMA

Tuscaloosa County

Downtown Tuscaloosa Historic District (Boundary Increase III and Boundary Decrease),Bounded by 3rd & 6th Sts., 21st & Lurleen Wallace South Aves., Tuscaloosa, 15000990

ARKANSAS

Carroll County

Crescent Hotel, 75 Prospect Ave., Eureka Springs, 15000991

Columbia County

Overstreet Hall, (New Deal Recovery Efforts in Arkansas MPS) NW. of jct. of E. University & N. Jackson Sts., Magnolia, 15000992

Conway County

Union Chapel School and Shop Building, (Public Schools in the Ozarks MPS) 298 Union Chapel Rd. & 28 Acker Ln., Springfield, 15000993

Little River County

Little River County Training School Historic District, 100 W. Hamilton St., Ashdown, 15000994

Monroe County

Monroe County Bank Building, 225-227 W. Cypress Sts., Brinkley, 15000995

GEORGIA

Bibb County

Levitt, William and Jane, House, 3720 Overlook Dr., Macon, 15000996

IOWA

Sac County

Perkins, George and Lola, House, 803 W. Main St., Sac City, 15000997

Sac City Chicago and North Western Depot, (Advent & Development of Railroads in Iowa MPS) 103 N. 13th St., Sac City, 15000998

LOUISIANA

Grant Parish

Hotel Lesage, 101 Main St., Colfax, 15000999

Iberville Parish

Bayou Paul Colored School, 915 Bayou Paul Rd., St. Gabriel, 15001000

Orleans Parish

Bristow Tower, 4537 Magnolia St., New Orleans, 15001001

Gem Theater, 3940 Thalia St., New Orleans, 15001002

Lafitte Avenue Project Buildings C-47, E-45 and No. 46, (United States Housing Authority Funded Public Housing in Louisiana MPS) Corner of Lafitte Ave. & N. Johnson St.,New Orleans, 15001003

Louisiana Superdome, 1500 Sugar Bowl Dr., New Orleans, 15001004

Rapides Parish

Rapides Parish Library, 411 Washington St., Alexandria, 15001005

West Carroll Parish

Oak Grove Community House, 414 James St., Oak Grove, 15001006

MASSACHUSETTS

Worcester County

Barnes—Hill House, 12 N. Brookfield Rd., Spencer, 15001007

MISSOURI

St. Louis Independent city

Gravois—Jefferson Streetcar Suburb Historic District (Boundary Increase), (South St. Louis Historic Working and Middle Class Streetcar Suburbs MPS) 2644-54 Gravois Ave., St. Louis (Independent City), 15001008

SOUTH CAROLINA

Spartanburg County

Duncan Park Stadium, 0 W. Park Dr., Spartanburg, 15001009

Authority: 60.13 of 36 CFR part 60.

Dated: December 15, 2015.
J. Paul Loether,
Chief, National Register of Historic Places/National Historic Landmarks Program.

[FR Doc. 2016-00101 Filed 1-7-16; 8:45 am]

BILLING CODE 4312-51-P